ENVIRONMENTAL PROTECTION AGENCY

[EPA-HQ-OEI-2016-0235; FRL-9954-87-OLEM]

Privacy Act; System of Records; Amendment of the EPA Personnel Emergency Contact Files, EPA-44

AGENCY: Environmental Protection Agency.

ACTION: Notice.

SUMMARY: Pursuant to the provisions of the Privacy Act of 1974 the U.S. Environmental Protection Agency's (EPA) Office of Land and Emergency Management, Office of Emergency Management is giving notice that it proposes to amend the EPA Personnel Emergency Contact files system of records. The system is being amended to change (1) the system name to Mass Alert and Notification System (MANS); (2) the categories of individuals covered by the system; and (3) categories of records in the system. This system of records will contain information collected from EPA personnel, contractors, grantees, consultants, and other support staff, including volunteers, who have an active EPA identification badge or are in the process of obtaining an EPA identification badge, for the purposes of providing emergency alerts and notifications and conducting accountability activities in support of affected persons following an emergency. Records may also be used for mass alert and notification system tests, drills, and exercises.

DATES: Persons wishing to comment on this system of records notice must do so by December 13, 2016. If no comments are received, the system of records notice will become effective by December 13, 2016.

ADDRESSES: Submit your comments, identified by Docket ID No. EPA-HQ-OEI-2016-0235, by one of the following methods:

• www.regulations.gov: Follow the online instructions for submitting comments.

• Email: oei.docket@epa.gov.

• Fax: 202-566-1752.

• Mail: OEI Docket, Environmental Protection Agency, Mailcode: 2822T, 1200 Pennsylvania Ave. NW., Washington, DC 20460.

• Hand Delivery: OEI Docket, EPA/DC, EPA West Building, Room 3334, 1301 Constitution Ave. NW., Washington, DC. Such deliveries are only accepted during the Docket's normal hours of operations, and special arrangements should be made for deliveries of boxed information.

Instructions: Direct your comments to Docket ID No. EPA-HQ-OEI-2016-0235. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room 3334, 1301 Constitution Ave. NW., Washington. DC. The Public Reading Room is open from 8:30 a.m. to 4:30 p.m., Monday through Friday excluding legal holidays. The telephone number for the Public Reading Room is (202) 566-1744, and the telephone number for the OEI Docket is (202) 566-1752.

FOR FURTHER INFORMATION CONTACT: Joe Vescio, National Continuity of Operations Manager, at (202) 564-2522.

SUPPLEMENTARY INFORMATION:

I. General Information

The U.S. Environmental Protection Agency (EPA) proposes to amend the EPA Personnel Emergency Contact Files system of records notice to more accurately reflect its scope and to address changes related to the expanded categories of individuals and records in the system. The EPA Personnel Emergency Contact Files system of records has been renamed Mass Alert and Notification System (MANS). This system of records contain personally identifiable information collected from EPA personnel, contractors, grantees, consultants, and other support staff, including volunteers, who have an active EPA identification badge or are in the process of obtaining an EPA identification badge, for the purposes of providing emergency alerts and notifications and conducting accountability of affected persons following an emergency. The privacy of the individual is affected by 1) rapidly and effectively disseminating emergency alerts and notifications, and 2) conducting personnel accountability activities following an emergency and having the ability to contact emergency personnel identified in case of an emergency pertaining to the employee. With this system of records modification, the MANS may also be used for mass alert and notification test, drill, and exercise evolutions.

The EPA will pre-populate MANS with government-furnished contact information, including first name, last name, middle initial, office location, scope of the record subject's responsibilities, work email address, work telephone number, work mobile telephone number, work short message service (SMS) (texting), and work telephone typewriter, teletypewriter or text phone/Telecommunications Device for the Deaf (TTY/TDD). Records are from various communications mediums such as telephones, emails and SMS. With this system of records modification, record subjects will have the option to voluntarily and securely add their own personal contact information, and information for their emergency contact person including home address, personal email address(es), home telephone number(s) and personal mobile telephone number(s), short message service (SMS) (texting), telephone typewriter, teletypewriter or text phone/Telecommunications Device for the Deaf (TTY/TDD) by establishing a personal account on the MANS web-portal.

Information maintained pursuant to this System of Records Notice (SORN) will be managed and maintained by the Office of Emergency Management in accordance with the Privacy Act. In order to protect the privacy of record subjects, only EPA personnel administering the MANS and contractor support staff (governed by the Privacy Act compliance terms in their contract) will have access to the MANS and government-furnished source data. EPA MANS Administrators will be required to present log-in credentials (i.e., username and password) in order to access MANS; these individuals have the appropriate security clearances and a role-based need to access records in the system. Electronic data are stored on servers that are maintained in locked facilities with secure access control.

Dated: October 12, 2016.
Ann Dunkin,
Chief Information Officer.

EPA-44

SYSTEM NAME

Mass Alert and Notification System.

SYSTEM LOCATION

Each Headquarters Office, 1200 Pennsylvania Ave. NW., Washington DC 20460, WJC North Building, or Regional Office may maintain emergency contact records.

AUTHORITY FOR MAINTENANCE OF THE SYSTEM

42 U.S.C. 5121 et seq.; Executive Order 12656 (Nov. 18, 1989); Federal Continuity Directive 1 (2012)

PURPOSE(S)

To contact EPA personnel, contractors, grantees, consultants, and other support staff, including volunteers, who have an active EPA identification badge or are in the process of obtaining an EPA identification badge, for the purposes of providing emergency alerts and notifications and conducting accountability activities in support of affected persons following an emergency, or, as a means to account for EPA employees, contractors, grantees, consultants, and any other support staff personnel following an emergency event. Records may also be used for mass alert and notification system test, drill, and exercise evolutions. This system will provide EPA with the ability to rapidly and effectively disseminate emergency alerts and notification information. In addition, it will provide the opportunity to identify emergency contacts in case of an incident that involves an employee.

CATEGORIES OF INDIVIDUALS COVERED BY THE SYSTEM

EPA personnel, contractors, grantees, consultants, and any other support staff personnel, including volunteers.

CATEGORIES OF RECORDS IN THE SYSTEM

The EPA will pre-populate MANS with the following government-furnished contact information: First name, last name, middle initial, office location, scope of the record subject's responsibilities, work email address, work telephone number and work mobile telephone number, work short message service (SMS) (texting) and work telephone typewriter, teletypewriter or text phone/Telecommunications Device for the Deaf (TTY/TDD). Records are from various communications mediums such as telephones, emails and SMS. Record subjects will also have the option to voluntarily and securely add their own personal contact information, and emergency contact(s), including home address, personal email address(es), home telephone number(s) and personal mobile telephone number(s), short message service (SMS) (texting), telephone typewriter, teletypewriter or text phone/Telecommunications Device for the Deaf (TTY/TDD) by establishing a personal account on the MANS web-portal.

RECORD SOURCE CATEGORIES

Records contained in this system of records are obtained from:

Individuals about whom the records will pertain and existing EPA systems of records including the following:

EPA-19 EPA Identification Card Record

EPA-62 EPA Personnel Access and Security System (EPASS)

EPA-1-R HRLOB

EPA-32 EPA Telecommunication Detail Records

ROUTINE USES OF RECORDS MAINTAINED IN THE SYSTEM, INCLUDING CATEGORIES OF USERS AND THE PURPOSES OF SUCH USES

General routine uses A, E, F, G, H, K and L. apply to this system. Records may also be disclosed to Federal, State, local, foreign, tribal, or other public authorities or to federal contracting companies or individuals involved with an emergency (or related exercise) that may require EPA assistance.

POLICIES AND PRACTICES FOR STORING, RETRIEVING, ACCESSING, RETAINING, AND DISPOSING OF RECORDS IN THE SYSTEM

STORAGE

In an electronic database.

RETRIEVABILITY

Information will be retrieved primarily by employee name. Information may also be retrieved by any collected data element.

SAFEGUARDS

Records are maintained in a secure, password protected computer system. All records are maintained in secure, access-controlled areas or buildings.

RETENTION AND DISPOSAL

Records stored in this system are subject to EPA's records schedule 1012, Information Technology Management. Records are kept as long as the record subject is affiliated with EPA.

SYSTEM MANAGER(S) AND ADDRESS

Director, Office of Emergency Management, Environmental Protection Agency, William Jefferson Clinton North Building, 1200 Pennsylvania Avenue NW., Mail Code 5104A, Washington, DC 20460. EPA coordinators in Regions and other offices may also be responsible for records.

RECORD ACCESS PROCEDURES

Request for access must be made in accordance with the procedures described in EPA's Privacy Act regulations at 40 CFR part 16. Requesters will be required to provide adequate identification, such as a driver's license, employee identification card, or other identifying document. Additional identification procedures may be required in some instances.

CONTESTING RECORDS PROCEDURES

Requests for correction or amendment must identify the record to be changed and the corrective action sought. EPA Privacy Act regulations are set out in 40 CFR part 16.

NOTIFICATION PROCEDURE

Any individual who wants to know whether this system of records contains a record about him or her, who wants access to his or her record, or who wants to contest the contents of a record, should make a written request to the Agency Privacy Officer at Earle.judy@epa.gov or by mail at EPA FOIA Office, Attn: Privacy Act Officer, MC 2822T, 1200 Pennsylvania Avenue NW., Washington, DC 20460.

SYSTEM EXEMPTED FROM CERTAIN PROVISIONS OF THE ACT

None.

[FR Doc. 2016-26487 Filed 11-2-16; 8:45 am]

BILLING CODE P